DEPARTMENT OF DEFENSE

Department of the Army, Corps of Engineers

Notice of Intent To Prepare a Draft Environmental Impact Statement for the Proposed East Tailings Expansion Project (Project), Near Magna, Salt Lake County, Utah

AGENCY: Department of the Army, U.S. Army Corps of Engineers, DoD.

ACTION: Notice of intent.

SUMMARY: The U.S. Army Corps of Engineers, Sacramento District (USACE), intends to prepare an Environmental Impact Statement (EIS) in accordance with the National Environmental Policy Act (NEPA) for the proposed Project. The Project is proposed due to the planned expansion of the Bingham Canyon Mine (Mine), a commercial open pit copper mining operation near Magna, Salt Lake County, Utah. Kennecott Utah Copper LLC (Applicant) has applied for a Department of the Army (DA) permit for discharges of dredged or fill materials into 44.86 acres of waters of United States, including wetlands, to construct the Project. This notice opens the public scoping phase and invites interested parties to identify issues and reasonable alternatives to the proposed action that should be considered in the EIS.

DATES: Written comments for consideration in the development of the scope of the NEPA EIS are due to the addresses below no later than April 17, 2023.

ADDRESSES: Please send written comments to Nicole Fresard, U.S. Army Corps of Engineers, Sacramento District, Bountiful Regulatory Field Office, 533 West 2600 South, Suite 150, Bountiful, Utah 84010; email at Nicole.D.Fresard@usace.army.mil.

FOR FURTHER INFORMATION CONTACT: Questions about the proposed action and EIS can be answered by Nicole Fresard, (801) 295-8380 extension 8321; email: Nicole.D.Fresard@usace.army.mil. Please refer to identification number SPK-2009-01213-UO.

SUPPLEMENTARY INFORMATION: The Applicant has applied for a DA permit under Section 404 of the Clean Water Act to construct the East Tailings Expansion with related infrastructure and to buttress the east slope of the historic South Tailings Impoundment.

The Applicant is developing an updated mine plan for the Bingham Canyon Mine that would extend the open pit life of mine to approximately year 2038 and would generate an additional 1.2 to 1.7 million tons (Mt) of copper equivalent product. To fully implement the updated mine plan, the Applicant has stated that it needs to expand the eastern portion of the historic south impoundment to provide an additional 100 Mt of tailings storage that cannot be met using existing storage capacity. In addition, studies have shown that the east slope of the historic South Tailings Impoundment is potentially susceptible to earthquake-induced tailing flows resulting from impoundment failure. The Project would buttress the east slope of the historic South Tailings Impoundment to improve seismic stability and reduce the risk of runout caused by a seismic event to a level as low as reasonably practicable.

The Project purpose is to increase tailings storage capacity for continued mining operations at the Bingham Canyon mine until approximately 2038 and to improve seismic stability of the east slope of the historic South Tailings Impoundment.

The project is located approximately ten miles west of Salt Lake City near the community of Magna, Utah. The additional infrastructure would include: new access roads; a new drainage system including finger drains; relocation of the clarification canal; a new 50-foot electrical corridor; relocation of Outfall 002 (which discharges to the C-7 ditches); installation of tailings and water piping, pumps, and valve stations required to operate the Project; and a dust control system. Construction of the Project infrastructure is planned to begin in 2024 and extend through 2026.

The project would impact approximately 539 acres, including 327 acres within the footprint of the existing South Tailings Impoundment, 39 acres of the existing clarification canal and the closed sedimentation pond (industrial process waters), and 173 acres on land without previous tailings deposition. In an approved jurisdictional determination and a preliminary jurisdictional determination dated May 2022, USACE reviewed a 351-acre survey area within and adjacent to the Project along the southeast boundary of the existing tailings impoundment and determined that 38.78 acres are industrial process waters, and 9.85 acres are artificial wetlands not subject to regulation under Section 404 of the Clean Water Act or Section 10 of the Rivers and Harbors Act. In addition, USACE determined that 54.93 acres of aquatic resources are potentially subject to Section 404 of the Clean Water Act. The project proposes to impact 44.86 acres of these potentially jurisdictional aquatic resources, including wetlands.

USACE anticipates that the draft EIS will be made available for public comments in November 2023. At that time, a minimum 45-day public review period will be provided for individuals and agencies to review and comment on the Draft EIS. USACE anticipates the Final EIS will be published in July 2024. At that time, a minimum 30-day public review period will be provided for individuals and agencies to review and comment on the Final EIS. A Record of Decision is anticipated in September 2024.

Alternatives. The EIS will include an evaluation of a reasonable range of alternatives. Currently, the following alternatives are expected to be analyzed in detail: (1) The no action alternative (no permit issued) and (2) the Proposed Action (Project). The no action alternative assumes that the Applicant would continue to operate the mine in its existing footprint; no changes to existing infrastructure would occur, with all potential waters of the U.S. avoided. In addition to the Proposed Action, USACE anticipates evaluating additional on-site and off-site alternatives for potential detailed analysis. As part of this notice, USACE requests comments on any additional on-site and off-site alternatives, information, and analyses relevant to the proposed action. All reasonable alternatives to the proposed federal action that meet the purpose and need will be considered in the Draft EIS.

Scoping. The USACE scoping process for the EIS includes a public involvement program with several opportunities to provide oral and written comments. In addition to public meetings and notifications in the Federal Register, USACE will issue public notices when the draft and final EIS are available.

Affected federal, state, and local agencies, Native American tribes, and other interested private organizations and parties are invited to participate. Potentially significant issues to be analyzed in the EIS include, but are not limited to impacts to waters, hydrology, water supply, water quality, cultural resources, biological resources, traffic and transportation, and air quality.

The USACE is the lead federal agency for preparation of the EIS under the requirements of NEPA. USACE has invited the following Tribes and federal and state agencies to participate as cooperating agencies for the EIS: Ute Indian Tribe of The Uintah & Ouray Reservation, Utah, Northwestern Band of the Shoshone Nation, Skull Valley Band of Goshute Indians of Utah, U.S. Environmental Protection Agency, U.S. Fish and Wildlife Service, Utah Department of Natural Resources, and Utah Department of Environmental Quality.

Other environmental review and consultation requirements for the proposed action include the need for the Applicant to obtain water quality certification under Section 401 of the Clean Water Act from the Utah Division of Water Quality. The proposed project will not affect any federally listed threatened or endangered species; however, it may affect state-listed special status species. USACE will consult with the State Historic Preservation Officer under Section 106 of the National Historic Preservation Act concerning properties listed, or potentially eligible for listing, on the National Register of Historic Places.

Interested parties may register for the USACE public notice email notification lists at: https://www.spk.usace.army.mil/Missions/Regulatory/Permitting/Request-for-Public-Notice-Notification/.

Public Scoping Meetings. USACE will hold in-person public scoping meetings in Magna, Utah at the Webster Community Center, 8952 West Magna Main Street, from 6 to 8 p.m. MT on April 4, 2023, and in Kearns, Utah at the Element Event Center, 5624 South Cougar Lane, Kearns, Utah 84118 from 6 to 8 p.m. MT on April 5, 2023. Interested parties can provide oral and written comments at the meetings. Interested parties may also submit written comments on this notice. Scoping comments may be submitted at any time prior to publication of the Draft EIS, which is anticipated in November 2023.

Antoinette R. Gant,
Brigadier General, USA, Commanding.

[FR Doc. 2023-05501 Filed 3-16-23; 8:45 am]

BILLING CODE 3720-58-P